CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed VISTA Training Evaluation Alumni & Project Supervisor Survey. Online surveys will be conducted with 500 VISTA alumni and 100 VISTA Project Supervisors in order to obtain their opinions regarding the effectiveness and efficiency of VISTA member training. This information will allow VISTA to improve the VISTA training curricula and structure in the future.

Copies of the information collection request can be obtained by contacting the office listed in the addresses section of this notice.

DATES: Written comments must be submitted to the individual and office listed in the ADDRESSES section by June 18, 2012.

ADDRESSES: You may submit comments, identified by the title of the information collection activity, by any of the following methods:

(1) By mail sent to: Corporation for National and Community Service, VISTA; Attention Craig Kinnear, Program Analyst, Room 9103A; 1201 New York Avenue NW., Washington, DC 20525.

(2) By hand delivery or by courier to the Corporation's mailroom at Room 8100 at the mail address given in paragraph (1) above, between 9 a.m. and 4 p.m. Eastern Time, Monday through Friday, except Federal holidays.

(3) By fax to: (202) 606-3475, Attention: Craig Kinnear, Program Analyst.

(4) Electronically through www.regulations.gov. Individuals who use a telecommunications device for the deaf (TTY-TDD) may call 1-800-833-3722 between 8 a.m. and 8 p.m. Eastern Time, Monday through Friday.

FOR FURTHER INFORMATION CONTACT: Craig Kinnear, (202) 606-6708, or by email at ckinnear@cns.gov.

SUPPLEMENTARY INFORMATION:

The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background:

VISTA Alumni will be surveyed to determine how well VISTA training prepared them for their VISTA service. VISTA Project Supervisors will be surveyed to determine how well VISTA training prepared their VISTA members for service. Surveys will be conducted electronically through Survey Monkey.

Current Action

This is a new information collection request.

Type of Review: New.

Agency: Corporation for National and Community Service.

Title: VISTA Training Evaluation Alumni & Project Supervisor Survey.

OMB Number: NA.

Agency Number: None.

Affected Public: VISTA Alumni & VISTA Project Supervisors.

Total Respondents: 600.

Frequency: Once.

Average Time per Response: 30 minutes.

Estimated Total Burden Hours: 300 hours.

Total Burden Cost (capital/startup): None.

Total Burden Cost (operating/maintenance): None.

Comments submitted in response to this notice will be summarized and/or included in the request for Office of Management and Budget approval of the information collection request; they will also become a matter of public record.

Dated: April 10, 2012.
Mary Strasser,
Director, AmeriCorps VISTA.

[FR Doc. 2012-9117 Filed 4-16-12; 8:45 am]

BILLING CODE 6050-$$-P